DEPARTMENT OF COMMERCE

National Oceanic and Atmospheric Administration

RIN 0648-XG893

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 177th Council meeting by teleconference and webinar to take actions on fishery management issues in the Western Pacific Region. The Council will also hold a Biological Opinion Review Advisory Panel meeting by teleconference and webinar.

DATES: The Biological Opinion Review Advisory Panel meeting will be held on April 2, 2019, and the 177th Council meeting will be held on April 4, 2019. For specific times and agendas, see SUPPLEMENTARY INFORMATION.

ADDRESSES: The meetings will be held by teleconference and webinar. The teleconference numbers are U.S. toll-free (888) 482-3560 or International Access: +1 (647) 723-3959, and Access Code: 5228220. The webinar can be accessed at: https://wprfmc.webex.com/join/info.wpcouncilnoaa.gov.

The host site for the Biological Opinion Review Advisory Panel meeting teleconference will be the Council Conference Room, 1164 Bishop St., Suite 1400, Honolulu, HI. The following venues will also be host sites for the 177th Council Meeting teleconference: Council Conference Room, 1164 Bishop St., Suite 1400, Honolulu, HI; Native American Samoa Advisory Council Office Conference Room, Pava`ia`i Village, Pago Pago, AS; Guam Hilton Resort and Spa, 202 Hilton Rd., Tumon Bay, GU; Department of Land and Natural Resources Conference Room, Lower Base Drive, Saipan, MP.

FOR FURTHER INFORMATION CONTACT: Kitty M. Simonds, Executive Director, Western Pacific Fishery Management Council, (808) 522-8220 (voice) or (808) 522-8226 (fax).

SUPPLEMENTARY INFORMATION: The Biological Opinion Review Advisory Panel meeting will be held on April 2, 2019, from 1 p.m. to 3 p.m. (Hawaii Standard Time (HST)). The 177th Council Meeting will be held on April 4, 2019, from 1 p.m. to 4 p.m. (HST) and from noon to 3 p.m. (Samoa Standard Time (SST)), and on April 5, 2019, from 9 a.m. to noon (Chamorro Standard Time (ChST)). Agenda items noted as “Final Action Items” refer to actions that may result in Council transmittal of a proposed fishery management plan, proposed plan amendment, or proposed regulations to the U.S. Secretary of Commerce, under Sections 304 or 305 of the Magnuson-Stevens Fishery Conservation and Management Act (Magnuson-Stevens Act). Opportunities to present oral public comment will be provided throughout the agendas. The order of the agenda may change, and will be announced in advance at the meetings. The meetings may run past the scheduled times noted above to complete scheduled business.

Background documents for the 177th Council meeting will be available at http://www.wpcouncil.org. Written public comments for the 177th Council meeting should be received at the Council office by 5 p.m. (HST), April 1, 2019, and should be sent to Kitty M. Simonds, Executive Director; Western Pacific Fishery Management Council, 1164 Bishop Street, Suite 1400, Honolulu, HI 96813; fax: (808) 522-8226; or email: info.wpcouncil@noaa.gov.

Agenda for the Biological Opinion Review Advisory Panel Meeting

Tuesday, April 2, 2019, 1 p.m. to 3 p.m. (HST)

1. Introductions

2. Overview of the Advisory Panel Task

3. Overview of the Draft Biological Opinion for the Hawaii-based Shallow-set Longline Fishery

4. Advisory Panel Review of the Draft Biological Opinion

5. Public Comment

6. Advisory Panel Discussion and Recommendations

7. Other Business

Agenda for 177th Council Meeting

Thursday, April 4, 2019, 1 p.m.-4 p.m. (HST); Thursday, April 4, 2019, 12 p.m.-3 p.m. (ASST); Friday, April 4, 2019, 9 a.m.-12 p.m. (MST)

1. Welcome and Introductions

2. Approval of the 177th Agenda

3. Draft Biological Opinion for the Hawaii-based Shallow-set Longline Fishery

4. Biological Opinion Review Advisory Panel Report and Recommendations

5. Managing Loggerhead and Leatherback Sea Turtle Interactions in the Hawaii-based Shallow-set Longline Fishery (Final Action Item)

6. Public Hearing

7. Council Discussion and Recommendations

8. Other Business

Non-emergency issues not contained in this agenda may come before the Council for discussion and formal Council action during the 177th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Please direct requests for sign language interpretation or other auxiliary aids to Kitty M. Simonds (see FOR FURTHER INFORMATION CONTACT section above) at least five days prior to the meeting date.

Authority: 16 U.S.C. 1801 et seq.

Dated: March 13, 2019.
Tracey L. Thompson,
Acting Director, Office of Sustainable Fisheries, National Marine Fisheries Service.

[FR Doc. 2019-05056 Filed 3-18-19; 8:45 am]

BILLING CODE 3510-22-P